DEPARTMENT OF HOMELAND SECURITY

Transportation Security Administration

Extension of Agency Information Collection Activity Under OMB Review: Department of Homeland Security—Vulnerability Identification Self-Assessment Tool—Transportation (DHS-VISAT-T)

AGENCY: Transportation Security Administration, DHS.

ACTION: 30 day Notice.

SUMMARY: This notice announces that the Transportation Security Administration (TSA) has forwarded the Information Collection Request (ICR), OMB control number 1652-0037, abstracted below to the Office of Management and Budget (OMB) for review and approval of an extension of the currently approved collection under the Paperwork Reduction Act. The ICR describes the nature of the information collection and its expected burden. TSA published a Federal Register notice, with a 60-day comment period soliciting comments, of the following collection of information on December 24, 2008, 73 FR 79148. The collection allows TSA to collect data from transportation asset owners or operators on security measures deployed and their effectiveness.

DATES: Send your comments by March 20, 2009. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Ginger LeMay, Office of Information Technology, TSA-11, Transportation Security Administration, 601 South 12th Street, Arlington, VA 20598-6011; telephone (571) 227-3616; e-mail ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Department of Homeland Security—Vulnerability Identification Self-Assessment Tool—Transportation (DHS-VISAT-T).

Type of Request: Extension of a currently approved collection.

OMB Control Number: 1652-0037.

Forms(s): NA.

Affected Public: Transportation Sectors.

Abstract: The DHS-VISAT-T (formerly the TSA Self-Assessment Risk Module (TSARM)) was developed to assist all modes of transportation asset owners/operators in developing a security plan and in performing a vulnerability assessment of their asset(s). The tool is designed to be user-friendly, web-based, and is provided at no cost to transportation owner and operators. The tool captures a snapshot of the asset's baseline security posture and assists the stakeholder in conducting a vulnerability assessment and completing a comprehensive security plan. TSA designed this tool to be flexible to support the unique characteristics of each transportation mode, while still providing a common framework from which analysis and trends can be identified. Thus far, TSA has developed modules of the tool for maritime, mass transit, highway bridges, and rail passenger stations, with more in development.

Users have the option to submit the completed assessment to TSA. If submitted, TSA reviews the assessment for consistency and provides feedback to the users. Submitted assessments are then used to conduct analysis of the industry standard and to provide cross sector analysis of multiple modes.

Number of Respondents: 1,000.

Estimated Annual Burden Hours: An estimated 8,000 hours annually.

Issued in Arlington, Virginia, on February 12, 2009.
Ginger LeMay,
Paperwork Reduction Act Officer, Business Improvements and Communications, Office of Information Technology.

[FR Doc. E9-3443 Filed 2-17-09; 8:45 am]

BILLING CODE 9110-05-P